EQUAL EMPLOYMENT OPPORTUNITY COMMISSION

Public Hearing

AGENCY: Equal Employment Opportunity Commission.

ACTION: Notice of public hearing on proposed EEO-1 Report amendments.

SUMMARY: Notice is hereby given that the Equal Employment Opportunity Commission (EEOC or Commission) has scheduled a public hearing to gather information and hear public comment on the proposed revision of the Employer Information Report (EEO-1).

DATES: November 20, 2019; 9:30 a.m.

ADDRESSES: EEOC Headquarters, 131 M Street NE, Washington, DC, Jacqueline A. Berrien Commission Meeting Room.

FOR FURTHER INFORMATION CONTACT: Rashida Dorsey, Ph.D., MPH, Director, Data Development and Information Products Division and Senior Advisor on Data Strategy, Office of Enterprise Data and Analytics, Equal Employment Opportunity Commission, 131 M Street NE, Washington, DC 20507, (202) 663-4355 (voice) or (202) 663-7063 (TTY). Requests for this notice in an alternative format should be made to the Office of Communications and Legislative Affairs at (202) 663-4191 (voice) or (202) 663-4494 (TTY).

SUPPLEMENTARY INFORMATION: Pursuant to section 709(c) of the Civil Rights Act of 1964, the Commission is holding a public hearing to discuss the proposed changes to the EEO-1 Report. The proposed changes are described in the Commission's September 12, 2019, Paperwork Reduction Act Notice, 84 FR 48138. In the Notice, the EEOC stated that it was planning to seek approval under the Paperwork Reduction Act to continue administering Component 1 of the EEO-1 survey, which the EEOC had sponsored for many years. The EEOC also said that it is not planning to continue using the EEO-1 Report to collect Component 2 pay data information, which the Commission originally added to the EEO-1 in 2016.

The public is invited to attend, but space is limited and will be given on a first come, first serve basis.

The Commission plans to hear from panels of experts, representing a diverse range of different views. Invited panelists will be given the opportunity to present their views at the hearing, and members of the public have the opportunity to submit comments until November 12, 2019, in response to the Commission's Paperwork Reduction Act Notice.

For the Commission.
Dated: October 30, 2019.
Janet Dhillon,
Chair.

[FR Doc. 2019-24118 Filed 11-4-19; 8:45 am]

BILLING CODE 6570-01-P